DEPARTMENT OF THE INTERIOR

Bureau of Land Management

[LLCO923000 L14300000.ET0000; COC-2422401]

Notice of Proposed Withdrawal and Opportunity for a Public Meeting; Colorado

AGENCY: Bureau of Land Management, Interior.

ACTION: Notice.

SUMMARY: The Assistant Secretary of the Interior for Policy, Management and Budget proposes to withdraw, on behalf of the Bureau of Land Management (BLM), 2,214.31 acres of public lands in Chaffee County, Colorado, to protect the scenic, recreational, and other natural resource values along with the capital investments of developed recreational facilities found within the scenic Browns Canyon corridor along the Arkansas River. This notice segregates the public lands for up to 2 years from location and entry under the United States mining laws and gives the public an opportunity to comment on the application and to request a public meeting.

DATES: Comments and public meeting requests must be received on or before July 2, 2013.

ADDRESSES: Comments and meeting requests should be sent to the BLM Colorado State Office, 2850 Youngfield Street, Lakewood, CO 80215-7093.

FOR FURTHER INFORMATION CONTACT: John D. Beck, Chief, Branch of Lands and Realty, 303-239-3882. Persons who use a telecommunication device for the deaf (TDD) may call the Federal Information Relay Service (FIRS) at 1-800-877-8339 to contact the above individual. The FIRS is available 24 hours a day, 7 days a week, to leave a message or question with the above individual. You will receive a reply during normal business hours.

SUPPLEMENTARY INFORMATION: The BLM filed an application requesting the Assistant Secretary for Policy, Management and Budget to withdraw, subject to valid existing rights, the following described public lands from location and entry under the United States mining laws, for a period of 20 years, to protect the scenic, recreational, and other natural resource values along with the capital investments of developed recreational facilities found within the scenic Browns Canyon corridor along the Arkansas River:

New Mexico Principal Meridian

T. 51 N., R. 8 E.,

Sec. 11, lots 1, 2, and 3, S½NE¼, E½SE¼, NW¼SE¼, and E½SW¼SE¼;

Sec. 12, W½W½SW¼;

Sec. 13, W½NW¼NW¼;

Sec. 14, NE¼, SE¼NW¼, E½SW¼, and W½SE¼;

Sec. 23, W½NE¼, E½E½NW¼, E½SW¼, and W½W½SE¼;

Sec. 26, W½NE¼, NE¼NW¼, E½SE¼NW¼, E½SW¼, SE¼SW¼SW¼, NW¼SE¼, and W½SW¼SE¼;

Sec. 34, S½NE¼NE¼ and SE¼NE¼;

Sec. 35, N½NW¼ and N½SW¼NW¼.

Sixth Principal Meridian

T. 15 S., R. 77 W.,

Sec. 30, lots 2, 3, and 4;

Sec. 31, lots 1 to 4, inclusive, and W½E½W½.

T. 15 S., R. 78 W.,

Sec. 12, SW¼SW¼;

Sec. 13, E½SW¼ and SW¼SE¼;

Sec. 24, W½NE¼ and N½SE¼;

Sec. 25, SE¼NE¼ and E½SE¼.

The areas described aggregate 2,214.31 acres of public lands in Chaffee County.

The Assistant Secretary for Policy, Management and Budget approved the BLM's petition/application; therefore, the petition constitutes a withdrawal proposal of the Secretary of the Interior (43 CFR 2310.1-3(e)).

The purpose of the proposed withdrawal is to protect scenic, recreational, and other natural resource values found within the scenic Browns Canyon corridor along the Arkansas River and the capital investments of developed recreational sites. The proposed withdrawal is within the boundaries of the Browns Canyon Area of Critical Environmental Concern (ACEC). The ACEC includes all of the Browns Canyon Wilderness Study Area to the east of the river and was established to protect the area's naturalness, water-related recreation, scenic, and visual qualities.

The use of a right-of-way, interagency or cooperative management agreement would not adequately constrain non-discretionary uses that could irrevocably destroy the area's scenic and recreational values.

There are no suitable alternative sites as the described lands contain the natural resource and recreation values in need of protection.

No water rights would be needed to fulfill the purpose of the requested withdrawal.

Records relating to the application may be examined by contacting Debbie Bellew, BLM Colorado State Office at the above address or by telephone at 303-239-3707.

For the period until July 2, 2013, all persons who wish to submit comments, suggestions, or objections in connection with the proposed withdrawal application may present their views in writing to the BLM Colorado State Office at the address noted above. Comments, including names and street addresses of respondents, will be available for public review at the BLM Colorado State Office, at the address above, during regular business hours, 8 a.m. to 4 p.m., Monday through Friday, except Federal holidays.

Individual respondents may request confidentiality. Before including your address, phone number, email address, or any other personal identifying information in your comments, you should be aware that your entire comment—including personal identifying information—may be made publicly available at any time. While you can ask us in your comment to withhold your personal identifying information from public view, we cannot guarantee that we will be able to do so. If you wish to withhold your name, street address, and/or email address from public review or from disclosure under the Freedom of Information Act, you must state this prominently at the beginning of your written comment. Such requests will be honored to the extent allowed by law. All submissions from organizations or businesses will be available for public inspection in their entirety.

Notice is hereby given that an opportunity for a public meeting is afforded in connection with the proposed withdrawal. All interested persons who desire a public meeting for the purpose of being heard on the proposed withdrawal must submit a written request to the BLM Colorado State Director no later than July 2, 2013. If the authorized officer determines that a public meeting will be held, a notice of the time and place will be published in the Federal Register and through local media, newspapers, and the BLM Web site at: http://www.blm.gov/co/st/en.html, at least 30 days before the scheduled date of the meeting.

For a period until April 3, 2015, the lands described in this notice will be segregated from location and entry under the United States mining laws unless the application is denied or cancelled or the withdrawal is approved prior to that date. Licenses, permits, cooperative agreements, or discretionary land use authorizations of a temporary nature which will not significantly impact the values to be protected by the withdrawal may be allowed with the approval of the authorized officer of the BLM during the temporary segregative period.

This application will be processed in accordance with the regulations set forth in 43 CFR 2310.3.

Helen M. Hankins,
State Director.

[FR Doc. 2013-07748 Filed 4-2-13; 8:45 am]

BILLING CODE 4310-JB-P